DEPARTMENT OF THE INTERIOR

National Park Service

[NPS-WASO-NRNHL-DTS#-36317; PPWOCRADI0, PCU00RP14.R50000]

National Register of Historic Places; Notification of Pending Nominations and Related Actions

AGENCY: National Park Service, Interior.

ACTION: Notice.

SUMMARY: The National Park Service is soliciting electronic comments on the significance of properties nominated before July 29, 2023, for listing or related actions in the National Register of Historic Places.

DATES: Comments should be submitted electronically by August 28, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 29, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ALASKA

Kenai Peninsula Borough

Snug Harbor Packing Company, Chisik Island, Chisik Island vicinity, SG100009319

Prince of Wales-Outer K. Borough

Hansen, Karl, House, 603a Main St., Port Alexander, SG100009304

MASSACHUSETTS

Suffolk County

Homestead Street Apartments Historic District, 119-167 Homestead St., Boston, SG100009306

Repertory Theatre of Boston, 264 Huntington Ave., Boston, SG100009307

SOUTH DAKOTA

Clay County

Brookman House, 404 Cottage Ave., Vermillion, SG100009320

Hand County

Archaeological Site 39HD115 (Bison Kill Sites in South Dakota, 9000 B.C. to 1875 A.D. MPS), Address Restricted, Ree Heights vicinity, MP100009315

UTAH

Davis County

Leonard-Taylor House (Settlement Era Buildings of Farmington, 1847 to 1896), 94 East 500 North, Farmington, MP100009316

VIRGINIA

King William County

Cherry Grove, 4381 Mansfield Rd., Avlett vicinity, SG100009312

WISCONSIN

Ashland County

Fifield Place Historic District, 110 North Ellis Ave., 2-5 and 7 Fifield Row, Ashland, SG100009305

A request for removal has been made for the following resource:

WISCONSIN

Brown County

Krause, Julius, Store Building, 106 South Broadway, De Pere, OT14000502

Additional documentation has been received for the following resource):

ARIZONA

Maricopa County

Coronado Neighborhood Historic District (Additional Documentation), 942 and 946 East Coronado Rd. and 1650 North 10th St., Phoenix, AD86000206

Nomination submitted by Federal Preservation Officer:

The State Historic Preservation Officer reviewed the following nomination and responded to the Federal Preservation Officer within 45 days of receipt of the nomination and supports listing the property in the National Register of Historic Places.

COLORADO

San Miguel County

Bachelor Mine (Historic Radium, Uranium, and Vanadium Mining Resources in the Uravan Mineral Belt, Colorado MPS), Cty. Rd. Z13 southwest of Naturita, Naturita vicinity, MP100009310

Authority: Section 60.13 of 36 CFR part 60.

Dated: August 2, 2023.
Sherry A. Frear,
Chief, National Register of Historic Places/National Historic Landmarks Program.

[FR Doc. 2023-17191 Filed 8-10-23; 8:45 am]

BILLING CODE 4312-52-P